DEPARTMENT OF LABOR

Agency Information Collection Activities; Submission for OMB Review; Comment Request; Escape and Evacuation Plans

ACTION: Notice of availability; request for comments.

SUMMARY: The Department of Labor (DOL) is submitting this Mine Safety and Health Administration (MSHA)-sponsored information collection request (ICR) to the Office of Management and Budget (OMB) for review and approval in accordance with the Paperwork Reduction Act of 1995 (PRA). Public comments on the ICR are invited.

DATES: The OMB will consider all written comments that the agency receives on or before January 25, 2024.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Michael Howell by telephone at 202-693-6782, or by email at DOL_PRA_PUBLIC@dol.gov.

SUPPLEMENTARY INFORMATION: 30 CFR 57.11053 requires the development of specific escape and evacuation plans by the operator that address the unique conditions and mining system of each underground metal and nonmetal mine (MNM). The plan must show assigned responsibilities of all key personnel in the event of an emergency and set out in written form. 30 CFR 57.11053 also requires that mine operators make modifications to the escape and evacuation plan for an underground metal and nonmetal mine as mining progresses and conditions at the mine change. The plan must be available to the Secretary or their authorized representatives from MSHA, and conspicuously posted at the mine at locations convenient to all persons on the surface and underground. The mine operator and MSHA are required to jointly review the plan at least once every 6 months. The information is prepared by the mine operator for use by miners, MSHA, and persons involved in rescue operations. A miner must be aware, at all times, of the emergency escape route for his/her particular working place. Rescue personnel must be aware of the miners' escape routes. For additional substantive information about this ICR, see the related notice published in the Federal Register on August 1, 2023 (88 FRN 50179).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-MSHA.

Title of Collection: Escape and Evacuation Plans.

OMB Control Number: 1219-0046.

Affected Public: Businesses or other for-profits.

Number of Respondents: 190.

Frequency: On occasion.

Number of Responses: 380.

Annual Burden Hours: 3,230 hours.

Total Estimated Annual Other Costs Burden: $1,900.

(Authority: 44 U.S.C. 3507(a)(1)(D))

Michael Howell,
Senior Paperwork Reduction Act Analyst.

[FR Doc. 2023-28366 Filed 12-22-23; 8:45 am]

BILLING CODE 4510-43-P